DEPARTMENT OF AGRICULTURE

Forest Service

Lassen National Forest; California; Lakes Forest Recovery Project

AGENCY: Forest Service, USDA.

ACTION: Notice of intent.

SUMMARY: The Forest Service intends to prepare an environmental impact statement to analyze and disclose the environmental effects of implementing resource management activities that include fuelbreak construction consisting of a strategic system of defensible fuel profile zones, group selection and individual tree selection harvests, and riparian restoration projects on the Almanor Ranger District in the Lassen National Forest. These activities are part of a 5-year pilot project to test and demonstrate the effectiveness of certain resource management activities designed to meet ecologic, economic, and fuel reduction objectives on the Lassen National Forest as well as the Plumas National Forest and on the Sierraville Ranger District of the Tahoe National Forest. This notice applies only to the Lassen National Forest; however, all three National Forests were named in the Record of Decision (August 1999) for the Herger-Feinstein Quincy Library Group Forest Recovery Act Final Environmental Impact Statement. The Record of Decision amended the management direction in the Land and Resource Management Plans for these three National Forests. The need for the Record of Decision and Final Environmental Impact Statement was generated from the Herger-Feinstein Quincy Library Group Forest Recovery Act of October 21, 1998.

DATES: Comments concerning the scope of the analysis should be received in writing on or before January 12, 2001.

ADDRESSES: Send written comments to Susan Jeheber-Matthews, Almanor District Ranger, P.O. Box 767, Chester, CA, 96020.

FOR FURTHER INFORMATION CONTACT: Dominic Cesmat, Interdisciplinary Team Leader, telephone: (530) 258-2141.

SUPPLEMENTARY INFORMATION:

Proposed Action

To accomplish the purpose of the Herger-Feinstein Quincy Library Group Forest Recovery Act (Act), resource management activities included in the proposed Lakes Forest Recovery Project are defensible fuel profile zone (DFPZ) construction, group selection and individual tree selection harvests, and riparian restoration projects. The proposed project is located in Butte County, California, within the Almanor Ranger District of the Lassen National Forest in all or portions of Sections 1-3, 10-15, 22-27, 34-36, T.25N, R.4E., Sections 3-10, 15-20, 29-30, T.25N., R.5E., Sections 1-4, 9-15, 22-26, 34-36, T.26N., R.4E., Section 4-10, 14-23, 26-35, T.26N., R.5E., Sections 33-36, T.27N., R.4E., and Sections 31-33, T.27N., R.5E., MDM.

The Lakes Forest Recovery Project area is one of five sub networks established to implement a DFPZ network on the District. The purpose of DFPZs in this area is to reduce the number of acres that would be burned by high-intensity and stand-replacing fires. DFPZs are needed in this area in order to improve suppression efficiency by creating an environment where wildfires would burn at lower intensities and where fire fighting production rates would be increased. DFPZ are strategically located strips of land on which forest fuels, both living and dead, have been modified in order to reduce the potential for a sustained crown fire and to allow fire suppression personnel a safer location from which to take action against a wildfire. Fuels treatment strategies would focus on the alteration or reduction of surface fuels, ladder fuels, and canopy closure in order to effectively alter fire behavior and severity. Treatment methods would include thinning timbered stands, hand or machine piling of excessive forest fuels, and prescribed fire. The Lakes Forest Recovery Project proposes to construct 7,780 acres of DFPZs in the Lake's project area including an estimated 5,520 acres that would be thinned.

Groups selection harvests would be implemented to promote diversity in stand age and structure. Root disease centers or dwarf mistletoe infected areas would be targeted for group selection, as well as those stands that are even-aged in structure. Some understocked areas would also be regenerated using the group selection prescription. Group selection harvests would be implemented in some aspen stands where competition for light and soil moisture from conifers is causing a decline in health and structure of the aspen stand. Treatment would consist of removing most of the conifers within identified aspen stands. Group selection harvests would also be utilized to treat stands with meadow attributes that are declining due to conifer encroachment within the meadow. Group selection harvests would be performed to reduce the encroachment of conifers. Group selection would be implemented on an estimated 1,100 acres within the Lakes Forest Recover Project area. Fuels treatment would occur on 650 acres within group selections.

Individual tree selection is allowed in the Act to promote forest health and provide an uneven-aged structure to forested lands. Individual tree selection would be implemented on an estimated 460 acres within the Lakes Forest Recovery Project area.

Included in the proposed action for the Lakes Forest Recovery Project is the realignment of a boundary for a protected activity center for the California spotted owl, and the establishment of a new goshawk management area for a nesting pair of goshawks.

New construction of permanent and temporary roads would be needed to economically access stands requiring treatment for DFPZ and group selection harvest. Within the project area, 19.9 miles of permanent new road construction and 8.2 miles of temporary road construction would be implemented for this purpose. New construction of permanent roads would be added to the Forest transportation system. Temporary roads would be obliterated upon completion of use.

Riparian restoration projects would include erosion control treatment on existing landings and skidtrails, and on eroding streambanks that are contributing sediment to the streams. Treatment of existing roads would be implemented as part of an overall riparian restoration strategy to reduce impacts caused by roads. Impacts include erosion and increased runoff from inadequately or poorly drained roads, especially those located close to streams and with poorly designed drainage structures and stream crossings. Road treatments would include road relocation (11.2 miles of new construction, all of which is included in the new construction mentioned above), reconstruction (44 miles of existing roads for DFPZ and group selection access), and decommissioning (14.9 miles). Reconstruction activities would also include improvement or relocation of several in-channel water sources.

Decision To Be Made

The decision to be made is whether to implement the proposed action as described above, to meet the purpose and need for action through some other combination of activities, or to take no action at this time.

In order to fully test the Herger-Feinstein Quincy Library Group Forest Recovery Act on the Almanor Ranger District (e.g., implement contiguous DFPZs on the landscape), it is necessary to analyze and implement the resource management activities outlined in the Act within suitable habitat for the California spotted owl. The Lakes Forest Recovery Project proposed action includes projects within suitable habitat.

The Record of Decision for the Herger-Feinstein Quincy Library Group Forest Recovery Act Final Environmental Impact Statement (FEIS) stated that California spotted owl habitat would be avoided at the site-specific project level until a new California spotted owl habitat management strategy is released. The decision to implement resource management activities within suitable owl habitat in the Lakes Forest Recovery Project area will be based upon one or more of the following three actions:

(1) A decision is made on the Sierra Nevada Conservation Framework (that would amend the Lassen National Forest (NF) Land and Resource Management Plan) that defines a new owl strategy and allows the implementation of resource management activities as outlined in the Act, or;

(2) A new California spotted owl viability assessment is completed providing direction encompassing the species' range and the Lassen NF Land and Resource Management Plan is amended to include the new owl strategy, or;

(3) A site-specific California spotted owl strategy would be developed and implemented for this project resulting in a non-significant amendment to the Lassen NF Forest Plan.

Responsible Official and Lead Agency

The USDA Forest Service is the lead agency for this proposal. District Ranger Susan Jeheber-Matthews is the responsible official.

Tentative or Preliminary Issues and Possible Alternatives

Comments from the public and other agencies will be used in preparation of the draft environmental impact statement (EIS). The scoping process will be used to identify questions and issues regarding the proposed action. An issue is defined as a point of dispute, debate, or disagreement related to a specific proposed action based on its anticipated effects. Significant issues brought to our attention are used during an environmental analysis to develop alternatives to the proposed action. Some issues raised in scoping may be considered non-significant because they are: (1) Beyond the scope of the proposed action and its purpose and need; (2) already decided by law, regulation, or the Land and Resource Management Plan; (3) irrelevant to the decision to be made; or (4) conjectural and not supported by scientific or factual evidence.

An anticipated public issue with the Lakes Forest Recovery Project is the proposal to implement resource management activities within suitable California spotted owl habitat. Alternatives currently being considered for the Lakes Forest Recovery Project include: (a) No action; (b) the proposed action as outlined above, and; (c) an alternative, based on the proposed action, that does not enter into suitable California spotted owl habitat.

While public participation in this analysis is welcome at any time, comments received within 30 days of the publication of this notice will be especially useful in the preparation of the draft EIS.

Identification of Permits or Licenses Required

No permits or licenses have been identified to implement the proposal action.

Estimated Dates for Filing

The draft EIS is expected to be filed with the Environmental Protection Agency and available for public review on March 2001. The comment period on the draft EIS will be 45 days from the date the Environmental Protection Agency publishes the notice of availability of the draft EIS in the Federal Register.

The Reviewers Obligation To Comment

The Forest Service believes, at this early stage, it is important to give reviewers notice of several court rulings related to public participation in the environmental review process. First, reviewers of draft statements must structure their participation in the environmental review of the proposal so that is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulation of implementing the procedural provisions of the National Environmental Policy Act at 40 CFR 1503.3 in addressing these points.

Dated: December 6, 2000.
Edward C. Cole,
Forest Supervisor.

[FR Doc. 00-31694 Filed 12-12-00; 8:45 am]

BILLING CODE 3410—11—M